DEPARTMENT OF AGRICULTURE

Forest Service

Lincoln County Resource Advisory Committee

AGENCY: Forest Service, USDA.

ACTION: Notice of meeting.

SUMMARY: The Lincoln County Resource Advisory Committee will meet in Libby, Montana. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review past year project status, and review and vote to recommend funding projects for the 2013 Secure Rural Schools Act reauthorizaion.

DATES: The meeting will be held January 30, 2014 @ 6:00 p.m.

ADDRESSES: The meeting will be held at the Forest Supervisor's Office, 31374 Hwy 2 West, Libby, Montana. Written comments may be submitted as described under Supplementary Information. All comments, including names and addresses when provided, are placed in the record and are available for public inspection and copying. The public may inspect comments received at the Forest Supervisor's Office, 31374 Hwy 2 West, Libby, Montana. Please call ahead to 406-283-7764 to facilitate entry into the building to view comments.

FOR FURTHER INFORMATION CONTACT: Janette Turk, RAC Coordinator, Kootenai National Forest Supervisor's Office @ 406-283-7764.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or procedings by contacting the person listed For Further Information.

SUPPLEMENTARY INFORMATION: The following business will be conducted: The purpose of the meeting is to review past year project status, and review and vote to recommend projects for the 2013 Secure Rural Schools Act reauthorizaion. Anyone who would like to bring related matters to the attention of the committee may file written statements with the committee staff before or after the meeting. The agenda will include time for people to make oral statements of three minutes or less. Individuals wishing to make an oral statement should request in writing by January 27, 2014 to be scheduled on the agenda. Written comments and requests for time for oral comments must be sent to Kootenai National Forest, 31374 Hwy 2 West or by email to jturk@fs.fed.us, or via facsimile to 406-283-7709.

A summary of the meeting will be posted at: https://fsplaces.fs.fed.us/fsfiles/unit/wo/secure_rural_schools.nsf/RAC/Lincoln+County?OpenDocument, within 21 days of the meeting.

Dated: January 6, 2014.
Paul Bradford,
Forest Supervisor.

[FR Doc. 2014-00507 Filed 1-13-14; 8:45 am]

BILLING CODE 3410-11-P